DEPARTMENT OF LABOR

Occupational Safety and Health Administration

29 CFR Part 1910

[Docket No. S-777]

RIN 1218-AB36

Ergonomics Program

AGENCY: Occupational Safety and Health Administration (OSHA), U.S. Department of Labor.

ACTION: Proposed rule; extension of public comment period; rescheduling of informal public hearing; additional information and clarifications.

SUMMARY: OSHA is extending the public comment period for its proposed Ergonomics Program standard to provide the public an additional thirty (30) days to submit comments on the proposed standard. The Agency is also rescheduling the informal public hearing on the proposed rule and is extending the deadline for hearing participants to submit their hearing testimony and documentary evidence. OSHA is also using this document to provide the public with additional information and to clarify materials and data that were discussed in the preamble to the proposed standard as published in the Federal Register on November 23, 1999.

DATES: Written Comments: Written comments, including materials such as studies and journal articles, must be postmarked by March 2, 2000. If you submit comments by facsimile or electronically through OSHA's Internet site, you must transmit those comments by March 2, 2000.

Informal Public Hearing: The hearing in Washington, DC, will begin at 9:30 a.m., March 13, 2000, at the Francis Perkins Building, 200 Constitution Avenue, Washington, D.C. 20210. The hearing in Washington is scheduled to run for 4 weeks and to continue in Chicago, IL beginning April 11, 2000. We will provide dates, times, and locations for the continuation of the hearing at another location in a supplemental Federal Register document.

Notice of Intention To Appear at the Informal Public Hearing: Notices of intention to appear at the informal public hearing were required to have been postmarked by January 24, 2000. If the rescheduling of the hearings makes it necessary for you to change your requested hearing location or to substitute a witness, you may do so by submitting an amendment to your notice of intention to appear, postmarked no later than February 14, 2000, to Ms. Veneta Chatmon at the address listed below.

Hearing Testimony and Documentary Evidence: If you will be requesting more than 10 minutes for your presentation, or if you will be submitting documentary evidence at the hearing, you must submit the full testimony and all documentary evidence you intend to present at the hearing, postmarked by March 2, 2000.

ADDRESSES: Written Comments: Mail: Submit duplicate copies of written comments to: OSHA Docket Office, Docket No. S-777, U.S. Department of Labor, 200 Constitution Avenue, N.W., Room N-2625, Washington, DC 20210. Telephone: (202) 693-2350.

Facsimile: If your written comments are 10 pages or less, you may fax them to the OSHA Docket Office. The Docket Office fax number is (202) 693-1648.

Electronic: You may also submit comments electronically through OSHA's Homepage at www.osha.gov. Please note that you may not attach materials such as studies or journal articles to your electronic comments. If you wish to include such materials, you must submit them separately in duplicate to the OSHA Docket Office at the address listed above. When submitting such materials to the OSHA Docket Office, you must clearly identify your electronic comments by name, date, and subject, so that we can attach them to your electronic comments.

Amended Notices of Intention To Appear: Mail: If the rescheduling of the hearings makes it necessary for you to change your requested hearing location or substitute a witness, you may do so by submitting an amendment to your notice of intention to appear at the informal public hearing. The amendment must be postmarked by February 14, 2000, and be sent to: Ms. Veneta Chatmon, OSHA Office of Public Affairs, Docket No. S-777, U.S. Department of Labor, 200 Constitution Avenue, N.W., Room N-3647, Washington, DC 20210. Telephone: (202) 693-2119.

Facsimile: You may fax your amendment to your notice of intention to appear to Ms. Chatmon at (202) 693-1634, no later than February 14, 2000.

Electronic: You may also submit your amendment to your notice of intention to appear electronically through OSHA's Homepage at www.osha.gov. no later than February 14, 2000.

Hearing Testimony and Documentary Evidence: You must submit in quadruplicate your hearing testimony and the documentary evidence you intend to present at the informal public hearing to Ms. Chatmon at the address above. You may also submit your hearing testimony and documentary evidence on disk (3½ inch) in WordPerfect 5.1, 6.0, 6.1, or 8.0, or ASCII, provided that you also send the original hard copy at the same time.

Informal Public Hearing: The informal public hearing to be held in Washington, DC, will be located in the Frances Perkins Building, U.S. Department of Labor, 200 Constitution Avenue, N.W., Washington, DC 20210. The hearing will continue in Chicago, IL on April 11-21 and will subsequently continue at another location. Time and location for the regional hearings will be announced in a later Federal Register.

FOR FURTHER INFORMATION CONTACT: OSHA's Ergonomics Team at (202) 693-2116, or visit the OSHA Homepage at www.osha.gov.

SUPPLEMENTARY INFORMATION:

Background

OSHA published its proposed Ergonomics Program standard in the Federal Register on November 23, 1999 (64 FR 65768). In that notice of proposed rulemaking, we provided the public with 70 days to submit written comments, extending through February 1, 2000. We also scheduled an informal public hearing beginning in Washington, DC, on February 22, 2000, continuing in Portland, OR on March 21-31, 2000, and in Chicago, IL, from April 11-21, 2000. Notices of intention to appear at these hearings were due on January 24, 2000, and hearing testimony and documentary evidence were due on February 1, 2000. OSHA is only extending the comment period; notices of intention to appear may be amended only if the rescheduling of the hearings makes it necessary to change your requested hearing location or to substitute a witness.

Comment Period and Informal Public Hearing

Many interested persons have requested that we provide them with additional time to submit written comments and that we reschedule the hearings to allow additional time to submit documentary evidence and prepare testimony. OSHA believes that the time periods established in the notice of proposed rulemaking provided the public with adequate time to review the proposed standard and prepare comments, evidence, and testimony for the hearings. In light of the interest expressed by the public, however, we have decided to provide an additional thirty (30) days for these submittals. Accordingly, written comments, hearing testimony, and documentary evidence must now be submitted by March 2, 2000. The informal public hearing in Washington, DC is now scheduled to begin on March 13, 2000. Except for the change in dates, please refer to Section XV of the preamble to the proposed rule (Public Participation—Notice of Hearing) for information on how to participate in the public comment period and the informal public hearing (64 FR at 66064-66066). If the rescheduling of the hearing makes it necessary for you to substitute a witness or change the location at which you wish to testify, you may file an amendment of your notice of intention to appear indicating the necessary changes. Such amendment must be submitted by February 14, 2000.

Additional Information and Clarifications

In addition, we are taking this opportunity to clarify that OSHA is relying on the evidence and data in Section D of the Preliminary Risk Assessment, including the data shown in Appendix VI-B, for its estimates of the effectiveness of ergonomics program interventions. 64 FR 65943-65975. This evidence is relevant both to the risk assessment and the economic analysis. Accordingly, we are clarifying that a statement made in Section VIII of the preamble, Summary of the Preliminary Economic Analysis and Regulatory Flexibility Analysis (PEA/RFA) (64 FR 66002), is incorrect. That statement is “A review of 88 studies of ergonomics program interventions showed that they reduced MSDs by an average of 67 percent (the median effectiveness rate for these studies was 64 percent).” The correct statement is “A review of 80 studies of ergonomics program interventions showed that they reduced MSDs by an average of 73 percent (the median effectiveness rate for these studies was 76 percent).” The corrected statement reflects the same result reported in the Preliminary Risk Assessment at 64 FR 65948 and is based on data from the intervention studies presented in Appendix VI-B of the preamble to the proposal (64 FR 65954-65975). We have placed in the docket a table identifying, by first author's name and exhibit number, the 80 studies in Table VI-B that were used to calculate the percentage reduction in total MSDs (Exhibit 26-1643). This table also identifies the studies used to derive other measures of program effectiveness, i.e., the percent reduction in lost workday MSDs, the reduction in the number of workers' compensation claims, and the reduction in workers' compensation costs. In all, as noted in the Preliminary Risk Assessment, there are a total of 92 case studies providing quantitative evidence on one or more of these measures of the effectiveness of ergonomic program interventions in reducing MSDs. 64 FR 65948.

The reference to 88 studies at 64 FR 66002 and the associated information in Table IV-1 of the full economic analysis (Ex. 28-1) were included inadvertently as the result of an editorial error: the failure to update these references to reflect the final results reported in the Preliminary Risk Assessment. These references reflected an interim analysis of a contractor-provided database of case studies that had not yet undergone OSHA quality control reviews. Although OSHA is not relying on these materials in any way, in the event members of the public may be interested, OSHA is placing in the record two exhibits relevant to its interim analysis. Exhibit 26-1645 is the contractor-provided database of case studies on which OSHA based the interim analysis. Exhibit 26-1644 is a reconstruction, to the extent possible, of the interim analysis.

In sum, OSHA is providing this additional information to make clear that the Agency is relying on the evidence and data discussed in the Preliminary Risk Assessment, including Appendix VI-B, as the basis for its estimate of the effectiveness of ergonomic programs. This evidence is relevant both to the risk assessment and the economic analysis. OSHA is not relying on the statement referring to the 88 studies (64 FR 66002) or the information in Table IV-1 of the preliminary economic analysis (Exhibit 28-1, Chapter IV, pp. 747-748). OSHA notes that this clarification has no effect on OSHA's bottom line estimate that ergonomics programs similar to the one OSHA has proposed will achieve, on average, a 50 percent reduction in the incidence of musculoskeletal disorders. This estimate of effectiveness is substantially below the median and mean reductions projected by the Preliminary Risk Assessment (64 FR 65948) and by the statement on 64 FR 66002.

Authority: This document was prepared under the direction of Charles N. Jeffress, Assistant Secretary of Labor for Occupational Safety and Health, U. S. Department of Labor, 200 Constitution Avenue, N.W., Washington, DC 20210. It is issued under sections 4, 6, and 8 of the Occupational Safety and Health Act of 1970 (29 U.S.C. 653, 655, 657), Secretary of Labor's Order No. 6-96 (62 FR 111), and 29 CFR part 1911.

Signed at Washington, DC, this 27th day of January, 2000.
Charles N. Jeffress,
Assistant Secretary of Labor for Occupational Safety and Health.

[FR Doc. 00-2200 Filed 1-28-00; 10:01 am]

BILLING CODE 4510-26-U